DEPARTMENT OF ENERGY

Federal Energy Regulatory Commission

Notice of Conference

| Docket Nos.
Midwest Independent Transmission System Operator, Inc | ER12-1265-005 ER12-1265-006
Midwest Independent Transmission System Operator, Inc | ER12-1266-005

On June 15, 2016, Commission staff will hold a conference call with Midcontinent Independent System Operator, Inc. (MISO) beginning at 10:00 a.m. (Eastern Time). The purpose of the conference call is to discuss tariff administration issues related to MISO's pending compliance filings in the above-captioned proceedings to ensure that the versions of the tariff sheets filed are accurate and complete.

Any party, as defined by 18 CFR 385.102(c), or any participant as defined by 18 CFR 385.102(b), is invited to listen to the conference call. Persons wishing to become a party must move to intervene and receive intervenor status pursuant to the Commission's regulations (18 CFR 385.214).

The conference call will not be webcast or transcribed. However, an audio listen-only line will be provided. Those wishing to access the listen-only line must email Sarah McKinley (Sarah.McKinley@ferc.gov) by 5:00 p.m. (Eastern Time) on June 9, 2016, providing name, email, and phone number, in order to receive the call-in information the day before the conference call. Please use the following text for the subject line: “ER12-1266-005 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Christopher Gore at (202) 502-8507, christopher.gore@ferc.gov.

Dated: June 2, 2016.
Kimberly D. Bose,
Secretary.

[FR Doc. 2016-13646 Filed 6-8-16; 8:45 am]

BILLING CODE 6717-01-P